ENVIRONMENTAL PROTECTION AGENCY

[FRL-9959-98-OECA]

National Environmental Justice Advisory Council; Notification of Public Meeting, Public Teleconference and Public Comment

AGENCY: Environmental Protection Agency (EPA).

ACTION: Notification of public meeting.

SUMMARY: Pursuant to the Federal Advisory Committee Act (FACA), the U.S. Environmental Protection Agency (EPA) hereby provides notice that the National Environmental Justice Advisory Council (NEJAC) will meet on the dates and times described below. All meetings are open to the public. Members of the public are encouraged to provide comments relevant to the specific issues being considered by the NEJAC. For additional information about registering to attend the meeting or to provide public comment, please see “Registration” under SUPPLEMENTARY INFORMATION. Due to a limited space, seating at the NEJAC meeting will be on a first-come, first served basis. Pre-registration is highly suggested.

DATES: The NEJAC will convene Tuesday, April 25, 2017, through Thursday, April 27, 2017, starting at 6:00 p.m., Central Time Tuesday, April 25, 2017. The meeting will convene April 26-27, 2017, from 9:00 a.m. until 5:00 p.m., Central Time.

One public comment period relevant to the specific issues being considered by the NEJAC (see SUPPLEMENTARY INFORMATION) is scheduled for Tuesday, April 25, 2017, starting at 6:00 p.m., Central Time. Members of the public who wish to participate during the public comment period are highly encouraged to pre-register by 11:59 p.m., Central Time on Monday, April 17, 2017.

ADDRESSES: The NEJAC meeting will be held at the Crowne Plaza Minneapolis Northstar Downtown, 618 Second Avenue, Minneapolis, MN 55402.

FOR FURTHER INFORMATION CONTACT: Questions or correspondence concerning the public meeting should be directed to Karen L. Martin, U.S. Environmental Protection Agency, by mail at 1200 Pennsylvania Avenue NW. (MC2201A), Washington, DC 20460; by telephone at 202-564-0203; via email at martin.karenl@epa.gov; or by fax at 202-564-1624. Additional information about the NEJAC is available at https://www.epa.gov/environmentaljustice/national-environmental-justice-advisory-council.

SUPPLEMENTARY INFORMATION: The Charter of the NEJAC states that the advisory committee “will provide independent advice and recommendations to the Administrator about broad, crosscutting issues related to environmental justice. The NEJAC's efforts will include evaluation of a broad range of strategic, scientific, technological, regulatory, community engagement and economic issues related to environmental justice.” The meeting discussion will focus on several topics including, but not limited to, environmental justice concerns of communities in Minneapolis, MN and surrounding areas and proactive efforts of states to advance environmental justice.

Registration

Registration for the April 25-27, 2017, pubic face-to-face meeting will be processed at https://nejac-spring-public-meeting-april-2017.eventbrite.com. Pre-registration is highly suggested. Registration for the April 26-27, 2017, pubic meeting teleconference option will be processed at https://nejac-spring-public-teleconference-april-2017.eventbrite.com. Pre-registration is required. Registration for the April 26-27, 2017, meeting closes at 11:59 p.m., Central Time on Monday, April 17, 2017. The deadline to sign up to speak during the public comment period, or to submit written public comments, is 11:59 p.m., Central Time on Monday, April 17, 2017. When registering, please provide your name, organization, city and state, email address, and telephone number for follow up. Please also indicate whether you would like to provide public comment during the meeting, and whether you are submitting written comments before the Monday, April 17, 2017, deadline.

A. Public Comment

Individuals or groups making remarks during the public comment period will be limited to seven (7) minutes. To accommodate the number of people who want to address the NEJAC, only one representative of a particular community, organization, or group will be allowed to speak. Written comments can also be submitted for the record. The suggested format for individuals providing public comments is as follows: Name of speaker; name of organization/community; city and state; and email address; brief description of the concern, and what you want the NEJAC to advise EPA to do. Written comments received by registration deadline, will be included in the materials distributed to the NEJAC prior to the teleconference. Written comments received after that time will be provided to the NEJAC as time allows. All written comments should be sent to Karen L. Martin, EPA, via email at martin.karenl@epa.gov.

B. Information About Services for Individuals With Disabilities or Requiring English Language Translation Assistance

For information about access or services for individuals requiring assistance, please contact Karen L. Martin, at (202) 564-0203 or via email at martin.karenl@epa.gov. To request special accommodations for a disability or other assistance, please submit your request at least fourteen (14) working days prior to the meeting, to give EPA sufficient time to process your request. All requests should be sent to the address, email, or phone/fax number listed in the FOR FURTHER INFORMATION CONTACT section.

Dated: March 2, 2017.
Matthew Tejada,
Designated Federal Officer, National Environmental Justice Advisory Council.

[FR Doc. 2017-06510 Filed 3-31-17; 8:45 am]

BILLING CODE 6560-50-P